DEPARTMENT OF HEALTH AND HUMAN SERVICES

Centers for Disease Control and Prevention

[Program Announcement 04269]

Voluntary Counseling, HIV Testing and AIDS Care in Stand-Alone Community Centers and in Health Facilities in Kenya; Notice of Intent To Fund Single Eligibility Award

A. Purpose

The Centers for Disease Control and Prevention (CDC) announces the intent to fund fiscal year (FY) 2004 funds for a cooperative agreement program to provide a model program for voluntary counseling and testing (VCT) services, VCT training, and comprehensive AIDS care program in Kenya.

The Catalog of Federal Domestic Assistance number for this program is 93.941.

B. Eligible Applicant

Assistance will be provided only to Liverpool VCT and Care Project (LVCT).

LVCT is the only Kenyan organization with adequate hands-on experience in supporting the development of VCT services not only in ministries of health (MOH) facilities, but also in other Government of Kenya sites and with other non governmental organizations (NGOs), community-based organization (CBO), and faith-based organization (FBO). LVCT has been providing VCT services in Kenya since 1998, and is now the nationally recognized leader in VCT in Kenya. LVCT played a key role, along with CDC Kenya, in developing the national VCT Guidelines in Kenya. LVCT has also developed the national VCT training curricula and the national VCT quality assurance manual. LVCT has trained over 600 VCT counselors, including counselors employed by LVCT, other NGOs, the MOH, the Kenya Department of Defense, and others. Most international and national organizations in Kenya contract with LVCT to conduct training in VCT, and all of them use the training and quality assurance materials developed by LVCT. In addition, LVCT has unique and demonstrated experience in providing training, capacity building and services for special populations, including the deaf, soldiers, remote populations, and other marginalized groups. LVCT has already developed mechanisms to support the delivery of VCT services in collaboration with FBO, including the Baptist AIDS Relief Agency in Kenya and the Supreme Council of Kenya Muslims. Because of its long history and experience in providing VCT services and training in Kenya, LVCT is currently the only appropriate and qualified Kenyan organization to conduct the specific activities needed to achieve the goals of this program.

C. Funding

Approximately $5,000,000 is available in FY 2004 to fund this award. It is expected that the award will begin on or before September 1, 2004, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact:

Elizabeth Marum, Ph.D., Project Officer, Global Aids Program [GAP], Kenya Country Team, National Center for HIV, STD and TB Prevention, Centers for Disease Control and Prevention [CDC], PO Box 606 Village Market, Nairobi, Kenya, Telephone: 256-20-271-3008, E-mail: emarum@cdcnairobi.mimcom.net.

Dated: July 2, 2004.
William P. Nichols, MPA,
Acting Director, Procurement and Grants Office, Centers for Disease Control and Prevention.

[FR Doc. 04-15694 Filed 7-9-04; 8:45 am]

BILLING CODE 4163-18-P